DEPARTMENT OF LABOR

Mine Safety and Health Administration

RIN 1219-AB73

Pattern of Violations

AGENCY: Mine Safety and Health Administration, Labor.

ACTION: Notice of OMB approval of information collection requirements.

SUMMARY: The Paperwork Reduction Act (PRA) requires this notice to set forth the effectiveness of information collection requirements contained in the final rule on Pattern of Violations.

DATES: The Office of Management and Budget (OMB) authorization for this information collection expires on February 29, 2016.

FOR FURTHER INFORMATION CONTACT: George F. Triebsch, Director, Office of Standards, Regulations, and Variances, MSHA, 1100 Wilson Boulevard, Room 2350, Arlington, Virginia 22209-3939, triebsch.george@dol.gov (email), 202-693-9440 (voice), or 202-693-9441 (facsimile).

SUPPLEMENTARY INFORMATION: On February 8, 2013, the Office of Management and Budget (OMB) approved, under Control Number 1219-0150, the Department of Labor's information collection request under the PRA for provisions associated with 30 CFR 104.2(a) for the final rule published in the Federal Register on January 23, 2013 (78 FR 5055). The final rule revised the Agency's existing regulation for pattern of violations. The effective date of the final rule is March 25, 2013.

Under the PRA, an agency may not conduct an information collection unless it has a currently valid OMB approval. OMB had not provided a PRA-required approval for the revised information collection provisions associated with 30 CFR 104.2(a) at the time the final rule was published (44 U.S.C. 3507(a)(2)). Therefore, in accordance with the PRA, the effective date of the information collection provisions associated with the revised rule was delayed until OMB approved the collection (44 U.S.C. 3506(c)(1)(B)(iii)(V)) on February 8, 2013. This OMB authorization expires on February 29, 2016.

Dated: February 13, 2013.
George F. Triebsch,
Certifying Officer.

[FR Doc. 2013-03797 Filed 2-19-13; 8:45 am]

BILLING CODE 4510-43-P